ENVIRONMENTAL PROTECTION AGENCY

40 CFR Part 180

[EPA-HQ-OPP-2014-0008; FRL-9953-69]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before January 9, 2017.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael L. Goodis, P.E., Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

Amended Tolerance

1. PP 5F8396. EPA-HQ-OPP-2015-0796. Gowan Company, P.O. Box 5569, Yuma, AZ, 85366, requests to amend the tolerances in 40 CFR 180.448 for residues of the insecticide hexythiazox in or on Alfalfa, forage from 15 parts per million (ppm) to 20 ppm; and Alfalfa, hay from 30 ppm to 60 ppm. High performance liquid chromatography (HPLC) using mass spectrometric detection (LC-MS/MS) analytical method is used to measure and evaluate residues of hexythiazox and its metabolites containing the PT-1-3 moiety. Contact: RD.

New Tolerances

1. PP 5F8412. EPA-HQ-OPP-2015-0795. Gowan Company, P.O. Box 5569, Yuma, AZ, 85366-5569, requests to establish tolerances in 40 CFR part 180.448 for residues of the insecticide hexythiazox in or on Bermudagrass, forage at 40.0 parts per million (ppm); and Bermudagrass, hay at 70.0 ppm. High performance liquid chromatography (HPLC) method using mass spectrometric detection (LC-MS/MS) is proposed for enforcement purposes. Contact: RD.

2. PP 5F8413. EPA-HQ-OPP-2015-0797. Gowan Company, P.O. Box 5569, Yuma, AZ, 85366-5569, requests to establish tolerances in 40 CFR part 180.448 for residues of the insecticide hexythiazox, in or on Beet, sugar, dried pulp at 0.60 parts per million (ppm); Beet, sugar, molasses at 0.21 ppm; Beet, sugar, roots at 0.15 ppm; and Beet, sugar, tops at 1.5 ppm. High performance liquid chromatography (HPLC) method using mass spectrometric detection (LC-MS/MS) is proposed for enforcement purposes. Contact: RD.

3. PP 6E8494. EPA-HQ-OPP-2016-0595. Nichino America, Inc., 4550 New Linden Hill Road, Suite 501, Wilmington, DE, 19808, requests to establish an import tolerance in 40 CFR part 180.511 for residues of the insecticide buprofezin, in or on Rice at 0.3 parts per million (ppm). Gas chromatography/mass spectrometry with nitrogen phosphorus detection (GC/NPD), and a gas chromatography/mass spectrometry (GC/MS) method for confirmation of buprofezin residues in plant commodities is proposed for enforcement purposes. Contact: RD.

4. PP 6F8502. EPA-HQ-OPP-2011-0971. Nichino America, Inc., 4550 New Linden Hill Road, Suite 501, Wilmington, DE, 19808, requests to establish tolerances in 40 CFR part 180 for residues of the insecticide pyrifluquinazon, in or on Almond, hulls at 0.01 parts per million (ppm); Brassica, head and stem vegetables (crop group 5-16) at 0.4 ppm; Cattle, fat at 0.01 ppm; Cattle, meat at 0.01 ppm; Cattle, meat byproducts at 0.01 ppm; Citrus fruits (crop group 10-10) at 0.5 ppm; Citrus, oil at 14 ppm; Cotton, gin byproducts at 4 ppm; Cotton, undelinted seed at 0.2 ppm; Cucurbit vegetables (crop group 9) at 0.06 ppm; Fruiting vegetables, tomato (crop group 8-10A) at 0.2 ppm; Fruiting vegetables, pepper/eggplant (crop group 8-10B) at 0.15 ppm; Goat, fat at 0.01 ppm; Goat, meat at 0.01 ppm; Goat, meat byproducts at 0.01ppm; Horse, fat at 0.01 ppm; Horse, meat at 0.01 ppm; Horse, meat byproducts at 0.01 ppm; Leaf petiole vegetables (crop subgroup 22B) at 1.5 ppm; Leafy vegetables (crop group 4-16) at 5 ppm; Milk at 0.01 ppm; Pome fruits (crop group 11-10) at 0.04 ppm; Sheep, fat at 0.01 ppm; Sheep, meat at 0.01 ppm; Sheep, meat byproducts at 0.01 ppm; Small fruit vine climbing subgroup (crop subgroup 13-07F) (except fuzzy kiwifruit) at 0.6 ppm; Stone fruits, cherry (crop group 12-12A) at 0.2 ppm; Stone fruits, peach (crop group 12-12B) at 0.03 ppm; Stone fruits, plum (crop group 12-12C) at 0.015 ppm; Tree nuts (crop group 14-12) at 0.01 ppm; and Tuberous and corm vegetables (crop subgroup 1C) at 0.01 ppm. Gas chromatography/mass spectrometry with nitrogen phosphorus detection (GC/NPD), and a gas chromatography/mass spectrometry (GC/MS) method for confirmation of buprofezin residues in plant commodities is proposed for enforcement purposes. Contact: RD.

5. PP 5F8416. EPA-HQ-OPP-2011-0985. ISK Biosciences Corporation, 7470 Auburn Road, Suite A, Concord, Ohio, 44077, requests to establish an import tolerance in 40 CFR part 180.613 for residues of the combined residues of the insecticide flonicamid [N-(cyanomethyl)-4-trifluoromethyl)-3-pyridinecarboxamide (CA) or N-cyanomethyl-4-trifluoromethylnicotinamide (IUPAC)] and its metabolites, TFNA [4-trifluoromethylnicotinic acid], TFNA-AM [4-trifluoromethylnicotinamide) and TFNG [N(4-trifluoromethylnicotinoyl)-glycine] in or on dried tea leaves at 40 parts per million (ppm). Analytical methodology has been developed to determine the residues of flonicamid and its three major plant metabolites, TFNA, TFNG, and TFNA-AM in various crops. The residue analytical method for the majority of crops includes an initial extraction with acetonitrile (CAN)/deionized (DI) water, followed by a liquid-liquid partition with ethyl acetate. The residue analytical method for wheat straw is similar, except that a C18 solid phase extraction (SPE) is added prior to the liquid-liquid partition. The final sample solution is quantified using a liquid chromatograph (LC) equipped with a reverse phase column and a quadruple mass spectrometer (MS/MS). Contact: RD.

Authority: 21 U.S.C. 346a.

Dated: November 30, 2016.
Michael Goodis,
Acting Director, Registration Division, Office of Pesticide Programs.

[FR Doc. 2016-29580 Filed 12-8-16; 8:45 am]

BILLING CODE 6560-50-P